DEPARTMENT OF EDUCATION

Foreign Language Assistance Program—State Educational Agencies

AGENCY: Office of English Language Acquisition, Language Enhancement, and Academic Achievement for Limited English Proficient Students, Department of Education.

ACTION: Notice of proposed priority.

SUMMARY: The Assistant Deputy Secretary and Director for English Language Acquisition, Language Enhancement, and Academic Achievement for Limited English Proficient Students proposes a priority under the Foreign Language Assistance program. We may use this priority for competitions in fiscal year (FY) 2006 and later years. We take this action to focus Federal financial assistance on an identified national need for programs in critical foreign languages in kindergarten through twelfth grade during the traditional school day. We intend this priority to increase the number of State educational agency programs implementing elementary and secondary school projects teaching languages of major economic and political importance.

DATES: We must receive your comments on or before March 30, 2006.

ADDRESSES: Address all comments about this proposed priority to Rebecca Richey, U.S. Department of Education, 400 Maryland Avenue, SW., room 10080, PCP, Washington, DC 20202-6510. If you prefer to send your comments through the Internet, use the following address: comments@ed.gov.

You must include the term “FLAP SEA Comments” in the subject line of your electronic message.

FOR FURTHER INFORMATION CONTACT: Rebecca Richey. Telephone: (202) 245-7133 or via Internet: rebecca.richey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 10080, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Background

In order to address the disparity between the need for and the limited number of programs teaching critical languages, we are proposing a priority that would provide Federal financial assistance to State educational agencies implementing elementary and secondary school projects that provide instruction in languages of major economic and political importance, such as Arabic, Chinese, Korean, Japanese, Russian, and languages in the Indic, Iranian, and Turkic language families.

In addition, the proposed priority provides that the projects it supports must establish, improve, or expand foreign language learning that occurs primarily during the traditional school day. Because these languages are not only less commonly taught, but also more difficult to learn, it is especially critical, if proficiency is to be obtained, that the rigorous and structured instruction be primarily carried out during the traditional school day. A project that provides instruction only on weekends or after school is significantly less likely to result in student proficiency.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Critical Need Languages

This priority supports projects that establish, improve or expand foreign language learning primarily during the traditional school day, within grade kindergarten through grade 12 that exclusively teach one or more of the following less commonly taught languages: Arabic, Chinese, Korean, Japanese, Russian, and languages in the Indic, Iranian, and Turkic language families.

Executive Order 12866

This notice of proposed priority has been reviewed in accordance with Executive Order 12866. Under the terms of the order, we have assessed the potential costs and benefits of this regulatory action.

The potential costs associated with the notice of proposed priority are those resulting from statutory requirements and those we have determined are necessary for administering this program effectively and efficiently.

In assessing the potential costs and benefits-both quantitative and qualitative-of this notice of proposed priority, we have determined that the benefits of the proposed priority justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.293C Foreign Language Assistance Program)

Program Authority: 20 U.S.C. 7259-7259b.

Dated: February 23, 2006.
Kathleen Leos,
Assistant Deputy Secretary and Director for English Language Acquisition, Language Enhancement, and Academic_Achievement for Limited English_Proficient Students.

[FR Doc. E6-2808 Filed 2-27-06; 8:45 am]

BILLING CODE 4000-01-P